ENVIRONMENTAL PROTECTION AGENCY

40 CFR Parts 144 and 146

[EPA-HQ-OW-2008-0390; FRL-8709-8]

RIN 2040-AE98

Proposed Federal Requirements Under the Underground Injection Control (UIC) Program for Carbon Dioxide (CO2) Geologic Sequestration (GS) Wells; Notice of Public Hearings

AGENCY: Environmental Protection Agency.

ACTION: Announcement of public hearings.

SUMMARY: The Environmental Protection Agency (EPA) is holding two public hearings to solicit public comment on the recently proposed regulations for the underground injection of carbon dioxide (CO2) for geologic sequestration under the Safe Drinking Water Act (SDWA). The SDWA requires EPA to protect underground sources of drinking water. The Underground Injection Control (UIC) Program works with States, Territories, and Tribes to regulate underground injection activities and prevent endangerment of drinking water sources. These hearings will provide interested parties with an opportunity to provide oral comments on the proposed rule. The oral comments will become part of the official rule-making record.

DATES: The hearings will be held from 9 a.m. to 5 p.m., CDT, September 30, 2008 in Chicago, IL, and 9 a.m. to 5 p.m., MDT, October 2, 2008 in Denver, CO.

ADDRESSES: In Chicago, IL the hearing will be held at the Ralph H. Metcalfe Federal Building, 77 W. Jackson Boulevard, Chicago, IL 60604. The Denver, CO hearing will be at the Colorado Convention Center, 700 14th St., Denver, CO 80202. Due to capacity limitations, we encourage you to indicate your intent to participate through pre-registration. To pre-register, for directions, and for site specific information, please visit the following Web site: http://gshearing.cadmusweb.com/.

FOR FURTHER INFORMATION CONTACT: For general information about these public hearings, please contact Mary Rose (Molly) Bayer by phone (202) 564-1981, by e-mail at bayer.maryrose@epa.gov, or by mail at: U.S. Environmental Protection Agency, Mail Code 4606M, 1200 Pennsylvania Ave., NW., Washington, DC 20460.

SUPPLEMENTARY INFORMATION: On July 25, 2008 at 73 FR 43491, EPA proposed requirements for underground injection of carbon dioxide for geologic sequestration. The proposal included a request for public comment and also described EPA's intent to convene public hearings on the proposed rule. This notice provides information about the dates and locations for those hearings. The proposed rule applies to owners or operators of wells that will be used to inject CO2 into the subsurface for the purpose of long-term storage. It proposes a new class of well (Class VI) and technical criteria for the geologic site characterization, area of review (AoR) and corrective action, well construction, operation, mechanical integrity testing, monitoring, well plugging, post-injection site care, and site closure for the purposes of protecting underground sources of drinking water.

For more information on Geologic Sequestration and the Underground Injection Control Program, please visit http://www.epa.gov/safewater/uic/index.html. To submit written comments, the docket can be viewed at http://www.regulations.gov (Docket Id: EPA-HQ-OW-2008-0390). Comments on the proposed rule must be received by November 24, 2008.

Special Accommodations

For information on access or services for individuals with disabilities, please contact Mary Rose (Molly) Bayer at (202) 564-1981 or bayer.maryrose@epa.gov. To request accommodation of a disability, please contact Mary Rose Bayer, preferably at least 10 days prior to the meeting, to give EPA as much time as possible to process your request.

Dated: August 21, 2008.
Nanci Gelb,
Deputy Director, Office of Ground Water and Drinking Water.

[FR Doc. E8-19998 Filed 8-27-08; 8:45 am]

BILLING CODE 6560-50-P